NATIONAL FOUNDATION ON THE ARTS AND THE HUMANITIES

Meetings of Humanities Panel

AGENCY: National Endowment for the Humanities.

ACTION: Notice of Meetings.

SUMMARY: Pursuant to section 10(a)(2) of the Federal Advisory Committee Act (5 U.S.C. App.), notice is hereby given that twelve meetings of the Humanities Panel will be held during March 2014, as follows. The purpose of the meetings is for panel review, discussion, evaluation, and recommendation of applications for financial assistance under the National Foundation on the Arts and Humanities Act of 1965 (20 U.S.C. 951-960, as amended).

DATES: See SUPPLEMENTARY INFORMATION section for meeting dates.

ADDRESSES: The meetings will be held at the Old Post Office Building, 1100 Pennsylvania Ave. NW., Washington, DC 20506. See SUPPLEMENTARY INFORMATION section for meeting room numbers.

FOR FURTHER INFORMATION CONTACT: Lisette Voyatzis, Committee Management Officer, 1100 Pennsylvania Ave. NW., Room 529, Washington, DC 20506, or call (202) 606-8322. Hearing-impaired individuals are advised that information on this matter may be obtained by contacting the National Endowment for the Humanities' TDD terminal at (202) 606-8282.

SUPPLEMENTARY INFORMATION:

Meetings

1. DATE: March 18, 2014. TIME: 8:30 a.m. to 5:00 p.m. ROOM: Via conference call. This meeting will discuss applications on the subject of Social Sciences for the Collaborative Research grant program, submitted to the Division of Research Programs.

2. DATE: March 19, 2014. TIME: 8:30 a.m. to 5:00 p.m. ROOM: Via conference call. This meeting will discuss applications on the subject of New World Archeology for the Collaborative Research grant program, submitted to the Division of Research Programs.

3. DATE: March 20, 2014. TIME: 8:30 a.m. to 5:00 p.m. ROOM: Via conference call. This meeting will discuss applications on the subject of History for the Collaborative Research grant program, submitted to the Division of Research Programs.

4. DATE: March 25, 2014. TIME: 8:30 a.m. to 5:00 p.m. ROOM: Via conference call. This meeting will discuss applications on the subject of The Americas for the Collaborative Research grant program, submitted to the Division of Research Programs.

5. DATE: March 25, 2014. TIME: 8:30 a.m. to 5:00 p.m. ROOM: Via conference call. This meeting will discuss applications on the subject of U.S. History and Culture for the Museums, Libraries, and Cultural Organizations: Implementation Grants program, submitted to the Division of Public Programs.

6. DATE: March 25, 2014. TIME: 8:30 a.m. to 5:00 p.m. ROOM: 415. This meeting will discuss applications for the Sustaining Cultural Heritage Collections grant program, submitted to the Division of Preservation and Access.

7. DATE: March 26, 2014. TIME: 8:30 a.m. to 5:00 p.m. ROOM: 415. This meeting will discuss applications for the Sustaining Cultural Heritage Collections grant program, submitted to the Division of Preservation and Access.

8. DATE: March 26, 2014. TIME: 8:30 a.m. to 5:00 p.m. ROOM: Via conference call. This meeting will discuss applications on the subject of Old World Archeology for the Collaborative Research grant program, submitted to the Division of Research Programs.

9. DATE: March 26, 2014. TIME: 8:30 a.m. to 5:00 p.m. ROOM: 426. This meeting will discuss applications on the subject of History for the Media Projects: Production Grants program, submitted to the Division of Public Programs.

10. DATE: March 27, 2014. TIME: 8:30 a.m. to 5:00 p.m. ROOM: Via conference call. This meeting will discuss applications on the subject of Philosophy, Religion, and the History of Science for the Collaborative Research grant program, submitted to the Division of Research Programs.

11. DATE: March 27, 2014. TIME: 8:30 a.m. to 5:00 p.m. ROOM: 426. This meeting will discuss applications on the subject of U.S. History and Culture for the Museums, Libraries, and Cultural Organizations: Implementation Grants program, submitted to the Division of Public Programs.

12. DATE: March 28, 2014. TIME: 8:30 a.m. to 5:00 p.m. ROOM: Via conference call. This meeting will discuss applications on the subject of Arts and Literature for the Collaborative Research grant program, submitted to the Division of Research Programs.

Because these meetings will include review of personal and/or proprietary financial and commercial information given in confidence to the agency by grant applicants, the meetings will be closed to the public pursuant to sections 552b(c)(4) and 552b(c)(6) of Title 5, U.S.C., as amended. I have made this determination pursuant to the authority granted me by the Chairman's Delegation of Authority to Close Advisory Committee Meetings dated July 19, 1993.

Dated: February 6, 2014.
Lisette Voyatzis,
Committee Management Officer.

[FR Doc. 2014-02985 Filed 2-11-14; 8:45 am]

BILLING CODE 7536-01-P